FEDERAL COMMUNICATIONS COMMISSION

47 CFR Part 9

[PS Docket Nos. 21-479, 18-64; FCC 24-78; FR ID 285086]

Facilitating Implementation of Next Generation 911 Services (NG911); Location-Based Routing for Wireless 911 Calls

AGENCY: Federal Communications Commission.

ACTION: Final rule; announcement of compliance date.

SUMMARY: In this document, the Federal Communications Commission (Commission) announces that the Office of Management and Budget (OMB) has approved a new information collection associated with certain rules adopted in a 2024 Report and Order concerning the implementation of Next Generation 911 (NG911) (NG911 Report and Order). The Commission also announces that compliance with these rules is now required. The Commission also amends the rules to remove certain paragraphs advising that compliance with the Commission's information collection requirements was not required until the Commission obtained OMB approval. This document is consistent with the NG911 Report and Order and rules, which state the Commission will publish a document in the Federal Register announcing a compliance date for the rule sections subject to OMB approval, and revise the rules accordingly.

DATES:

Effective date: This rule is effective March 25, 2025.

Compliance date: Compliance with 47 CFR 9.31(a) through (c) and 9.34(a) and (b), added in the final rule published September 24, 2024, at 89 FR 78066, and effective November 25, 2024, is required as of March 25, 2025.

FOR FURTHER INFORMATION CONTACT: For further information, please contact Brenda Boykin, Deputy Division Chief, Policy and Licensing Division, Public Safety and Homeland Security Bureau at (202) 418-2062 or brenda.boykin@fcc.gov. For additional information concerning the Paperwork Reduction Act information collection requirements contact Nicole Ongele at (202) 418-2991 or via email: Nicole.Ongele@fcc.gov.

SUPPLEMENTARY INFORMATION: This document announces that OMB has approved the information collection requirements in 47 CFR 9.31(a) through (c) and 9.34(a) and (b).

The Commission publishes this document as an announcement of the compliance date of 47 CFR 9.31(a) through (c) and 9.34(a) and (b). If you have any comments on the burden estimates listed below, or how the Commission can improve the collections and reduce any burdens caused thereby, please contact Nicole Ongele, Federal Communications Commission, 45 L Street NE, Washington, DC 20554, regarding OMB Control Number 3060-1333. Please include the relevant OMB Control Number in your correspondence. The Commission will also accept your comments via the internet if you send them to PRA@fcc.gov.

To request materials in accessible formats for people with disabilities (Braille, large print, electronic files, audio format), send an email to fcc504@fcc.gov or call the Consumer and Governmental Affairs Bureau at (202) 418-0530 (voice).

Synopsis

As required by the Paperwork Reduction Act of 1995 (44 U.S.C. 3507), the FCC is notifying the public that it received OMB approval on March 11, 2025 for the NG911 information collection requirements contained in the Commission's rules at 47 CFR 9.31(a) through (c) and 9.34(a) and (b).

Under 5 CFR part 1320, an agency may not conduct or sponsor a collection of information unless it displays a current, valid OMB Control Number.

No person shall be subject to any penalty for failing to comply with a collection of information subject to the Paperwork Reduction Act that does not display a current, valid OMB Control Number.

The foregoing notice is required by the Paperwork Reduction Act of 1995, Public Law 104-13, October 1, 1995, and 44 U.S.C. 3507.

The total annual reporting burdens and costs for the respondents are as follows:

OMB Control Number: 3060-1333.

OMB Approval Date: March 11, 2025.

OMB Expiration Date: March 31, 2028.

Title: Facilitating Implementation of Next Generation 911 Services (NG911).

Form Number: N/A.

Type of Review: New information collection.

Respondents: State, Local, or Tribal Government, and business or other for-profit entities.

Number of Respondents and Responses: 1,541 respondents; 2,837 responses.

Estimated Time per Response: 2-40 hours.

Frequency of Response: On occasion reporting requirement; third party disclosure requirement.

Obligation to Respond: Required to obtain or retain benefits. Statutory authority for this collection is contained in §§ 1, 2, 4(i), 201, 214, 222, 225, 251(e), 301, 303, 316, and 332 of the Communications Act of 1934, as amended, 47 U.S.C. 151, 152, 154(i), 201, 214, 222, 225, 251(e), 301, 303, 316, 332, and the Wireless Communications and Public Safety Act of 1999, Public Law 106-81, as amended, 47 U.S.C. 615 note, 615, 615a, 615a-1, 615b; and § 106 of the Twenty-First Century Communications and Video Accessibility Act of 2010, Public Law 111-260, 47 U.S.C. 615c.

Total Annual Burden: 18,116 hours.

Total Annual Cost: $902,000.

Needs and Uses: In the NG911 Report and Order released on July 19, 2024, FCC 24-78, published at 89 FR 78066, September 24, 2024, the Commission adopted rules to advance the nationwide transition to Next Generation 911 (NG911).¹ These rules require wireline providers, Commercial Mobile Radio Service (CMRS) providers, covered text providers, providers of interconnected Voice over Internet Protocol (VoIP) services, and providers of internet-based Telecommunications Relay Service (internet-based TRS) (collectively, OSPs) to take actions to start or continue the transition to NG911 in coordination with 911 Authorities. These rules include notification and recordkeeping requirements applicable to 911 Authorities and OSPs, as described in more detail herein.

¹ The NG911 Report and Order was corrected via two errata released on September 5, 2024, and October 1, 2024. The Second Erratum was published at 89 FR 83628.

Valid Requests. Under 47 CFR 9.31(a) and (b), 911 Authorities that wish to make Phase 1 or Phase 2 valid requests for delivery of 911 traffic in IP-based formats must provide OSP notification containing certain certifications and information via either direct communication or a registry to be made available by the Commission.

OSPs will use the information collected pursuant to § 9.31(a) and (b) that is submitted by 911 Authorities to trigger their NG911 transition requirements described in § 9.29(a) and (b), respectively, and their NG911 implementation deadlines set forth in § 9.30(a) and (b), respectively. To the extent that 911 Authorities use a registry made available by the Commission to submit their valid request notifications pursuant to § 9.31(a)(5) and (b)(6), the Public Safety and Homeland Security Bureau (PSHSB) will use the information collected pursuant to § 9.31(a) and (b) to monitor the progress of valid requests at each phase of the NG911 transition and to keep track of implementation deadlines associated with each valid request.

Petitions. Under 47 CFR 9.31(c), OSPs that wish to challenge 911 Authorities' valid requests may submit a petition to PSHSB within 60 days of the receipt of a Phase 1 or 2 request from a 911 Authority. Such challenge petitions must meet applicable procedural requirements and must be in the form of an affidavit that contains certain supporting information. The affected 911 Authority may file an opposition to the OSP's petition, and OSPs may file replies to oppositions. Filing parties must serve a copy of the document on the other party at the time of filing.

PSHSB will use the information collected pursuant to § 9.31 that is submitted by the OSPs in their petitions challenging 911 Authorities' valid requests, as well as information submitted by 911 Authorities who file oppositions to such petitions and information submitted by OSPs who file replies to such oppositions, to determine whether to pause the implementation deadline for that OSP, affirm the request of the 911 Authority as valid, or take other action as necessary. The requirements should simplify the enforcement and complaint process for both OSPs and 911 Authorities regarding OSPs' implementation deadlines.

Mutual Agreements. Under 47 CFR 9.34, 911 Authorities and OSPs may enter into voluntary mutual agreements that establish terms different from the Commission's rules. Within 30 days of the date when any such agreement is executed, or subsequently amended, modified, or terminated, the participating OSP must notify the Commission and provide information about each requirement that is impacted by the agreement and how the alternative terms differ from each impacted rule.

The information collected pursuant to § 9.34(a) and (b) provides the Commission with awareness of any changes to the requirements of OSPs under the rules.

List of Subjects in 47 CFR Part 9

Communications common carriers, Communications equipment, Radio.

Federal Communications Commission.
Marlene Dortch,
Secretary, Office of the Secretary.

For the reasons discussed in the preamble, the Federal Communications Commission amends 47 CFR part 9 as follows:

PART 9—911 REQUIREMENTS

1. The authority citation for part 9 continues to read as follows:

Authority: 47 U.S.C. 151-154, 152(a), 1955(c), 157, 160, 201, 202, 208, 210, 214, 218, 219, 222, 225, 251(e), 255, 301, 302, 303, 307, 308, 309, 310, 316, 319, 332, 403, 405, 605, 610, 615, 615 note, 615a, 615b, 615c, 615a-1, 616, 620, 621, 623, 623 note, 721, and 1471, and § 902 of Title IX, Division FF, Pub. L. 116-260, 134 Stat. 1182, unless otherwise noted.

§ 9.31 [Amended]

2. Amend § 9.31 by removing paragraph (d).

§ 9.34 [Amended]

3. Amend § 9.34 by removing paragraph (c).

[FR Doc. 2025-04833 Filed 3-24-25; 8:45 am]

BILLING CODE 6712-01-P